DEPARTMENT OF AGRICULTURE

Submission for OMB Review; Comment Request

June 19, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Grain Inspection, Packers and Stockyard Administration

Title: Swine Contract Library.

OMB Control Number: 0580-0021.

Summary of Collection: The Swine Packer Marketing Contracts, subtitle of the Livestock Mandatory Reporting Act of 1999, amended the Packers and Stockyards Act (P&S Act) to mandate the establishment of a library of swine packer marketing contracts (swine contract library), and a monthly report of types of contracts in existence and available and commitments under such contracts. The collection of information is necessary for the Grain Inspection, Packers and Stockyards Administration (GIPSA) to perform the functions required for the mandatory reporting of swine packer marketing contract information.

Need and Use of the Information: Information is required from packers for processing plants that meet certain criteria, including size as measured by annual slaughter. GIPSA is responsible for implementing and enforcing the P&S Act, including the swine contract library. The information collection and recordkeeping requirements for the swine contract library are essential for maintaining a mandatory library of information on contracts used by packers to purchase swine from producers and monthly reports of commitments under such contracts.

Description of Respondents: Business or other for-profit; Farms.

Number of Respondents: 32.

Frequency of Responses: Reporting: On occasion; Monthly.

Total Burden Hours: 899.

Charlene Parker,
Departmental Information Collection Clearance Officer.

[FR Doc. E6-9945 Filed 6-22-06; 8:45 am]

BILLING CODE 3410-KD-P